DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to Section 10(c) of the Endangered Species Act of 1973, as amended (16 U.S.C. 1531 et seq.).

If you wish to comment, you may submit comments by any one of several methods. You may mail comments to the Service's Regional Office (see ADDRESSES). You may also comment via the internet to “victoria_davis@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

DATES: Written data or comments on these applications must be received, at the address given below, by July 5, 2001.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION:

Applicant: Dr. Richard L. Mayden, University of Alabama, Tuscaloosa, Alabama, TE042764-0

The applicant requests authorization to take (capture, hold temporarily, identify, anesthetize with clover oil, take small fin clippings, and photograph) from each of the fifteen sampling populations a maximum of ten Conasauga logperch (Percina jenkinsi) and ten Roanoke logperch (Percina rex). Samples are for the purpose of studying mitochondrial DNA sequences to assess genetic variability and viability of four imperiled fish species whose ranges occur on National Forest Land in the southeast United States. The purposed activities will take place in the following states: Virginia, Tennessee, and Georgia.

Applicant: Melissa Brooks, Auburn University, Auburn, Alabama, TE042683-0

The applicant requests authorization to remove and reduce to possession two plants and fifty seeds from ten sites of Trillium reliquum (Relict Trillium) to determine the diversity of pollinators, the distance that pollinators travel, and the success of these pollinators versus hand pollination. The proposed activities will take place in Lee, Bullock, and Henry Counties, Alabama; Clay, Lee, Early, Talbot, and Columbia Counties, Georgia; and Aiken and Edgefield Counties, Kentucky.

Applicant: Arkansas Tech University, Chris Kellner, Russellville, Arkansas, TE042728-0

The applicant requests authorization to take (survey, capture, band nestlings, mark nests) Interior Least Tern (Sterna antillarum athalassos) to determine the distribution and abundance on the Arkansas River, describe the physical and habitat features of the colony sites, estimate the accuracy/reliability of aerial surveys, provide an estimate of the variability in abundance of potential colony sites over a two-year period, provide a precise estimate of reproductive success, identify important predators responsible for losses of eggs and chicks, and provide an estimate of the relative importance of natural and human influences on the abundance and distribution on the Arkansas River. The proposed activities will take place on the Arkansas River, from Pine Bluff to Fort Smith, in the following Arkansas counties: Jefferson, Lonoke, Pulaski, Conway, Johnson, Franklin, and Crawford.

Dated: May 22, 2001.
H. Dale Hall,
Deputy Regional Director.

[FR Doc. 01-13994 Filed 6-4-01; 8:45 am]

BILLING CODE 4310-55-P